DEPARTMENT OF HEALTH AND HUMAN SERVICES

National Institutes of Health

National Institute of Diabetes and Digestive and Kidney Diseases; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Diabetes and Digestive and Kidney Diseases Special Emphasis Panel; Pragmatic Research and Natural Experiments.

Date: September 28, 2015.

Time: 10 a.m. to 5 p.m.

Agenda: To review and evaluate grant applications.

Place: Bethesda Marriott Suites; 6711 Democracy Boulevard; Bethesda, MD 20817.

Contact Person: Michele L. Barnard, Ph.D.; Scientific Review Officer; Review Branch, DEA, NIDDK; National Institutes Of Health; Room 753, 6707 Democracy Boulevard; Bethesda, MD 20892-2542; (301) 594-8898; barnardm@extra.niddk.nih.gov.

Name of Committee: National Institute of Diabetes and Digestive and Kidney Diseases Special Emphasis Panel; PAR-12-265: NIDDK Ancillary Studies (R01).

Date: October 5, 2015.

Time: 1 p.m. to 2 p.m.

Agenda: To review and evaluate grant applications.

Place: National Institutes of Health; Two Democracy Plaza; 6707 Democracy Boulevard; Bethesda, MD 20892; (Telephone Conference Call).

Contact Person: Dianne Camp, Ph.D.; Scientific Review Officer; Review Branch, DEA, NIDDK; National Institutes Of Health; Room 756, 6707 Democracy Boulevard; Bethesda, MD 20892-2542; 301-594-7682; campd@extra.niddk.nih.gov.

Name of Committee: National Institute of Diabetes and Digestive and Kidney Diseases Special Emphasis Panel; The NIDDK-KUH Fellowship Review Committee.

Date: October 8, 2015.

Time: 8 a.m. to 5 p.m.

Agenda: To review and evaluate grant applications.

Place: Kinzie Hotel; 20 West Kiznie; Chicago, IL 60654.

Contact Person: Xiaodu Guo, MD, Ph.D.; Scientific Review Officer; Review Branch, DEA, NIDDK; National Institutes Of Health; Room 761, 6707 Democracy Boulevard; Bethesda, MD 20892-5452; (301) 594-4719; guox@extra.niddk.nih.gov.

Name of Committee: National Institute of Diabetes and Digestive and Kidney Diseases Special Emphasis Panel; PAR-12-265: NIDDK Ancillary Studies on Nutrition and Diabetes.

Date: October 16, 2015.

Time: 12 p.m. to 1 p.m.

Agenda: To review and evaluate grant applications.

Place: National Institutes of Health; Two Democracy Plaza; 6707 Democracy Boulevard; Bethesda, MD 20892; 301-594-7682; (Telephone Conference Call).

Contact Person: Dianne Camp, PhD.; Scientific Review Officer; Review Branch, DEA, NIDDK; National Institutes of Health; Room 756, 6707 Democracy Boulevard; Bethesda, MD 20892-2542; 301-594-7682; campd@extra.niddk.nih.gov.

Name of Committee: National Institute of Diabetes and Digestive and Kidney Diseases Special Emphasis Panel; Small Grants for New Investigators to Promote Diversity.

Date: October 29, 2015.

Time: 2 p.m. to 5 p.m.

Agenda: To review and evaluate grant applications.

Place: National Institutes of Health; Two Democracy Plaza; 6707 Democracy Boulevard; Bethesda, MD 20892; (Telephone Conference Call).

Contact Person: Jason D. Hoffert, Ph.D.; Scientific Review Officer; Review Branch, DEA, NIDDK; National Institutes Of Health; Room 741A, 6707 Democracy Boulevard; Bethesda, MD 2089-2542; 301-496-9010; hoffertj@niddk.nih.gov.

(Catalogue of Federal Domestic Assistance Program Nos. 93.847, Diabetes, Endocrinology and Metabolic Research; 93.848, Digestive Diseases and Nutrition Research; 93.849, Kidney Diseases, Urology and Hematology Research, National Institutes of Health, HHS)

Dated: August 26, 2015.
David Clary,
Program Analyst Office of Federal Advisory Committee Policy.

[FR Doc. 2015-21478 Filed 8-28-15; 8:45 am]

BILLING CODE 4140-01-P